DEPARTMENT OF COMMERCE

International Trade Administration

[A-533-808]

Stainless Steel Wire Rod from India: Notice of Initiation of Antidumping Duty New-Shipper Review

AGENCY: Import Administration, International Trade Administration, Department of Commerce.

EFFECTIVE DATE: March 20, 2007.

SUMMARY: On December 29, 2006, the Department of Commerce received a request to conduct a new-shipper review of the antidumping duty order on stainless steel wire rod from India. In accordance with section 751(a)(2)(B) of the Tariff Act of 1930, as amended (the Act), and 19 CFR 351.214(d), we are initiating a new-shipper review of Sunflag Iron & Steel Co., Ltd., the exporter and producer that requested the new-shipper review.

FOR FURTHER INFORMATION CONTACT: Catherine Cartsos or Minoo Hatten at (202) 482-1757 or (202) 482-1690, respectively, AD/CVD Operations, Office 5, Import Administration, International Trade Administration, U.S. Department of Commerce, 14th Street and Constitution Avenue, NW, Washington, DC 20230.

SUPPLEMENTARY INFORMATION:

Background

The notice announcing the antidumping duty order on stainless steel wire rod from India was published on December 1, 1993. See Antidumping Duty Order: Certain Stainless Steel Wire Rods from India, 58 FR 63335 (December 1, 1993). On December 29, 2006, the Department of Commerce (the Department) received a timely request for a new-shipper review of the order from Sunflag Iron & Steel Co., Ltd. (Sunflag). See section 751(a)(2)(B) of the Act and 19 CFR 351.214(c). Sunflag is both the Indian producer and exporter of the subject merchandise to the United States on which its request for a new-shipper review is based. As required by 19 CFR 351.214(b)(2)(i) and (iii)(A), Sunflag certified that it is a producer and exporter of the subject merchandise, that it did not export stainless steel wire rod to the United States during the period of investigation (POI) (July 1, 1992, through December 31, 1992), and that, since the initiation of the investigation, it has never been affiliated with any exporter or producer that exported stainless steel wire rod to the United States during the POI.¹

¹ See Sunflag's Request for New Shipper Review, dated December 29, 2006.

In addition, pursuant to 19 CFR 351.214(b)(2)(iv), the company submitted documentation establishing the following: (1) the date on which it first shipped the subject merchandise for export to the United States; (2) the volume of its first shipment and its subsequent shipment;² and (3) the date of its first sale to an unaffiliated customer in the United States.

² In its December 29, 2006, Request for New Shipper Review, Sunflag provided information on its subsequent shipment.

On January 31, 2007, the Department postponed its decision regarding whether to initiate the new-shipper review because, based upon its routine examination of Customs and Border Protection entry data, it was not clear whether the merchandise exported by Sunflag to the United States qualified as subject merchandise. See Memorandum from Catherine Cartsos through Minoo Hatten to the File, New-Shipper Review of Stainless Steel Wire Rod from India: Customs and Border Protection Entry Data, dated January 31, 2007. Under 19 CFR 351.302(b), the Department may extend any time limit established by its regulations for good cause unless expressly precluded by the statute. See Letter from Laurie Parkhill to Mr. M.D. Ghumare, General Manager of Exports for Sunflag, dated January 31, 2007. The status of the Sunflag entries is no longer at issue because the Department has determined that the merchandise exported by Sunflag to the United States qualifies as subject merchandise. See Memorandum from Catherine Cartsos through Minoo Hatten to the File, New-Shipper Review of Stainless Steel Wire Rod from India: Customs and Border Protection Entry Data and Documents, dated March 13, 2007.

Initiation of New-Shipper Review

In accordance with section 751(a)(2)(B) of the Act and 19 CFR 351.214(b)(2) and (d)(1), we find that Sunflag's request meets the threshold requirements for initiation of a new-shipper review. See March 13, 2007, Memorandum to the File through Laurie Parkhill, Director, AD/CVD Operations, Office 5, from the team regarding the new-shipper review initiation checklist. Accordingly, we are initiating a new-shipper review of the antidumping duty order on stainless steel wire rod from India for shipments produced and exported by Sunflag. The period of review is December 1, 2005, through November 30, 2006. See 19 CFR 351.214(g)(1)(i)(A). We intend to issue the preliminary results of this new-shipper review no later than 180 days after initiation of this review. See section 751(a)(2)(B)(iv) of the Act and 19 CFR 351.214(i). We intend to issue the final results of this review no later than 90 days after the date on which the preliminary results are issued. See section 751(a)(2)(B)(iv) of the Act and 19 CFR 351.214(i). On August 17, 2006, the Pension Protection Act of 2006 (H.R. 4) was signed into law. Section 1632 of H.R. 4 temporarily suspends the authority of the Department to instruct Customs and Border Protection to collect a bond or other security in lieu of a cash deposit in new-shipper reviews. Therefore, the posting of a bond under section 751(a)(2)(B)(iii) of the Act and 19 CFR 351.214(e) in lieu of a cash deposit is not available in this case. Importers of subject merchandise manufactured and exported by Sunflag must continue to pay a cash deposit of estimated antidumping duties on each entry of subject merchandise at the current all-others rate of 48.80 percent.

Interested parties that need access to proprietary information in this new-shipper review should submit applications for disclosure under administrative protective orders in accordance with 19 CFR 351.305 and 351.306.

This initiation and notice are in accordance with section 751(a)(2)(B) of the Act, 19 CFR 351.214(d), and 19 CFR 351.221(c)(1)(i).

Dated: March 13, 2007.
Gary Taverman,
Acting Deputy Assistant Secretary for Import Administration.

[FR Doc. E7-5040 Filed 3-19-07; 8:45 am]

BILLING CODE 3510-DS-S